DEPARTMENT OF COMMERCE

International Trade Administration

Upcoming Secretary-Led International Trade Administration Multi-Sector Trade Mission to China

AGENCY: International Trade Administration, Department of Commerce.

ACTION: Notice.

The United States Department of Commerce, International Trade Administration (ITA) is announcing an additional upcoming trade mission that will be recruited, organized, and implemented by ITA. The mission is:

• Secretary-Led Multi-Sector Trade Mission to China—mid-November 2017

A summary of the mission is found below. Application information and more detailed mission information, including the commercial setting and sector information, can be found at the trade mission Web site: http://export.gov/trademissions.

For each mission, recruitment will be conducted in an open and public manner, including publication in the Federal Register, posting on the Commerce Department trade mission calendar (http://export.gov/trademissions) and other Internet Web sites, press releases to general and trade media, direct mail, broadcast fax, notices by industry trade associations and other multiplier groups, and publicity at industry meetings, symposia, conferences, and trade shows.

The Following Conditions for Participation Will Be Used for This Mission

An applicant must sign and submit a completed application and supplemental application materials, including adequate information on the represented company's products and/or services, primary market objectives, and goals for participation. If an incomplete application form is submitted or the information and material submitted does not demonstrate how the applicant satisfies the participation criteria, the Department of Commerce may reject the application, request additional information, or take the lack of information into account when evaluating the application.

Each applicant must:

• Identify whether the products and services it seeks to export through the mission are either produced in the United States, or, if not, marketed under the name of a U.S. firm and have at least 51 percent U.S. content. In cases where the U.S. content does not exceed 50 percent, especially where the applicant intends to pursue investment in major project opportunities, the following factors may be considered in determining whether the applicant's participation in the Mission is in the U.S. national interest:

○ U.S. materials and equipment content;

○ U.S. labor content;

○ Contribution to the U.S. technology base, including conduct of research and development in the United States;

○ Repatriation of profits to the U.S. economy;

○ Potential for follow-on business that would benefit the U.S. economy;

• Certify that the export of their products and services is in compliance with U.S. export controls and regulations;

• Certify that it has identified to the Department of Commerce any business matter pending before any bureau or office in the Departments of Commerce;

• Certify that it has identified any pending litigation (including any administrative proceedings) to which it is a party that involves the Departments of Commerce; and

• Certify that it and its affiliates (1) have not and will not engage in the bribery of foreign officials in connection with a company's/participant's involvement in this mission, and (2) maintain and enforce a policy that prohibits the bribery of foreign officials.

In the case of a trade association, the applicant must certify that each firm or service provider to be represented by the association can make the above certifications.

The Following Selection Criteria Will Be Used for This Mission

Selection will be based on the following criteria, listed in decreasing order of importance:

• Suitability of the company's (or in the case of a trade association, represented company's) products or services to the Chinese market and the likelihood of increased exports or business interests in China as a result of this mission;

• Consistency of the company's (or in the case of a trade association, represented company's) goals and objectives with the stated scope of the mission;

• Rank/seniority of the applicant's designated representative;

• Current or pending major project/transaction/agreement/investment with Chinese entities or organizations with a capacity to increase U.S. exports to China; and

• Demonstrated export experience (in the case of a trade association, of the companies being represented) to China and/or other foreign markets.

The balance of entities participating in the mission with respect to type, size, location, sector or subsector may also be considered during the review process.

Referrals from political organizations and any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such visas will be the responsibility of the mission participant. Government fees and processing expenses to obtain such visas are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, the Department of Commerce defines Small and Medium Sized Enterprises (SME) as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

Mission List: (additional information about each mission can be found at http://export.gov/trademissions).

Secretary-Led Multi-Sector Trade Mission to China, Mid-November 2017

Summary

United States Secretary of Commerce Wilbur Ross will lead a Trade Mission to China in mid-November 2017. This multi-sector mission will promote U.S. exports to China by supporting U.S. companies in launching or increasing their business in the marketplace, as well as address trade policy issues with high-level Chinese officials. Key elements will include business-to-government and business-to-industry meetings, market briefings, networking events and opportunities to promote new deals and agreements between mission participants and Chinese entities through signing ceremonies.

In April 2017, President Trump and President Xi met at Mar-a-Lago to discuss strategic and economic concerns of both countries. The Presidents agreed to meet again in 2017 to further the relationship. Addressing the imbalance in U.S.-China trade has been a central focus of discussions between President Trump and President Xi, and this trade mission will advance the bilateral commercial relationship by promoting business deals between U.S. and Chinese firms, as well as addressing market access barriers faced by U.S. companies. President Xi and other senior Chinese officials have signaled their interest in improving the U.S.-China relationship through increased exports of U.S. goods and services to China.

The trade mission delegation will be composed of senior executives (equivalent to C-suite) from 12-25 U.S. firms.

Schedule
Day One, November | Beijing | Business Delegation arrives in Beijing. Business Delegation Meet and Greet. Participant dinner/networking.
Day Two, November | Beijing | Opening Session: Welcome Remarks from Senior Government Officials. Briefings/Panels with Chinese Ministers and industry experts. Working lunch. Briefings/Panels with Chinese Ministers and industry experts. Signings Ceremony. Networking Reception and Gala Dinner.

Participation Requirements

All companies interested in participating in the Secretarial Trade Mission to China must complete and submit an application package for consideration to the Department of Commerce. All applicants will be evaluated on their ability to meet certain conditions and best satisfy the selection criteria as outlined below. A minimum of 12 and a maximum of 25 companies will be selected to participate in the mission from the applicant pool.

Fees and Expenses

After a company has been selected to participate in the mission, a payment to the Department of Commerce in the form of a participation fee is required. The fee schedule for the mission is below:

• $10,000 for large firms or trade associations

• $9,500 for a small or medium-sized enterprises (SMEs) ¹

¹ For these purposes, a SME includes any company that qualifies as a small business under SBA regulations (see https://www.sba.gov/sites/default/files/files/Size_Standards_Table.pdf) or has 500 or fewer employees. Parent companies, affiliates, and subsidiaries will be considered when determining business size.

• $1,500 additional representative (large firm, SME, or trade association—limit one additional representative per company)

Participants selected for the trade mission will be expected to pay for the cost of all personal expenses, including, but not limited to, air travel, lodging, meals, communication, and incidentals unless otherwise noted. In the event the mission is cancelled, no personal expenses paid in anticipation of a trade mission will be reimbursed. However, participation fees for a cancelled trade mission will be reimbursed to the extent they have not already been expended in anticipation of the mission.

Business visas will be required. Government fees and processing expenses to obtain such visas are not included in the participation fee. However, the U.S. Department of Commerce will provide instructions to each participant on the procedures required to obtain necessary business visas.

Timeline for Recruitment

Mission recruitment will be conducted in an open and public manner, including publication in the Federal Register (http://www.gpoaccess.gov/fr), posting on ITA's business development mission calendar (http://export.gov/trademissions) and other Internet Web sites, press releases to general and trade media, direct mail, broadcast fax, notices by industry trade associations and other multiplier groups, and publicity at industry meetings, symposia, conferences, and trade shows.

Recruitment will begin immediately and conclude no later than October 6, 2017. Applications can be completed online and are available at www.export.gov/ChinaMission2017. At the time the dates of the mission are announced, they will be posted on this Web site. There is no guarantee this will occur before the application deadline.

The application deadline is October 6, 2017. Completed applications should be submitted online. Applications received after the October 6th deadline will be considered only if space and scheduling constraints permit. The Department of Commerce will evaluate all applications and inform applicants of selection decisions as soon as possible after the application deadline.

Contacts
General Business and Applications:The Office of Business Liaison, U.S. Department of Commerce, 1401 Constitution Avenue NW., Room 5062, Washington, DC 20230, Phone: +1-202-482-1360, Fax: 202-482-4054, E-mail: BusinessLiaison@doc.gov | Tyler Shields, Director, The Office of China and Mongolia, U.S. Department of Commerce, 1401 Constitution Avenue NW., Room 38013, Washington, DC 20230, Phone: +1-202-482-3544, Email: tyler.shields@trade.gov.

Frank Spector,
Senior Advisor for Trade Missions.

[FR Doc. 2017-20758 Filed 9-27-17; 8:45 am]

BILLING CODE 3510-DR-P